ENVIRONMENTAL PROTECTION AGENCY

[FRL-10500-01-OMS]

Privacy Act of 1974; System of Records

AGENCY: Office of the Chief Financial Officer (OCFO), Environmental Protection Agency (EPA).

ACTION: Rescindment of a system of records notice.

SUMMARY: The U.S. Environmental Protection Agency's (EPA), Office of the Chief Financial Officer, Office of Technology Solutions is giving notice that it proposes to rescind a system of records pursuant to the provisions of the Privacy Act of 1974. The Superfund Cost Recovery Package Imaging and On-Line System (SCORPIOS) system of records (EPA-39) is being rescinded because the e-Recovery system of records (EPA-90) replaces it. EPA is now using the e-Recovery system to organize and produce reports to recover costs associated with its response to releases or threatened releases of hazardous substances, or discharges or threatened discharges of oil.

DATES: EPA stopped maintaining this system of records on May 08, 2023. The e-Recovery system replaced SCORPIOS. The public comment period for the e-Recovery SORN closed on July 12, 2021.

ADDRESSES: Persons wishing to comment on this system or records notice must do so by October 5, 2023. Submit your comments, identified by Docket ID No. EPA-HQ-OMS-2022-0938, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2022-0938. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Andrew Lam, Ronald Reagan Building, 1300 Pennsylvania Ave. NW, Washington, DC 20460, Office of Chief Financial Officer, (202) 564-2925, Lam.Andrew@epa.gov.

SUPPLEMENTARY INFORMATION: EPA has the authority to recover costs associated with its response to releases or threatened releases of hazardous substances, or discharges or threatened discharges of oil. To support the recovery of certain removal costs associated with threatened or actual discharges of oil, EPA submits a Cost Recovery Package (CRP) to the U.S. Coast Guard (USCG). Previously, EPA used SCORPIOS to prepare the CRP; however, because SCORPIOS uses old technology that has become difficult and expensive for the Agency to maintain, the SCORPIOS system (EPA-39) is replaced with the more modern e-Recovery system (EPA-90). The information previously stored in SCORPIOS is now stored in the e-Recovery system. Information about the e-Recovery system and its system of records notice was published in the Federal Register (86 FR 31,307) on June 11, 2021

SYSTEM NAME AND NUMBER:

SCORPIOS, EPA-39.

HISTORY:

66 FR 49947 (October 1, 2001).

Vaughn Noga,
Senior Agency Official for Privacy.

[FR Doc. 2023-19062 Filed 9-1-23; 8:45 am]

BILLING CODE 6560-50-P